FEDERAL COMMUNICATIONS COMMISSION

47 CFR Part 73

[MB Docket No. 08-197, RM-11491; DA 10-2117]

Radio Broadcasting Services; Silverpeak, NV

AGENCY: Federal Communications Commission.

ACTION: Proposed rule; dismissal.

SUMMARY: The Audio Division dismisses the petition for rule making filed by Shamrock Communications, Inc., proposing the allotment of Channel 291C at Silverpeak, Nevada, as the community's first local transmission service. The reason for the dismissal is that, in light of the prior dismissal of a proposed channel substitution at Amargosa Valley, Nevada, the proposal to allot Channel 291C at Silverpeak, Nevada, does not meet the Commission's spacing requirements for FM services. For that reason, the Audio Division dismissed the petition for rule making and terminated the proceeding without adoption of a final rule.

ADDRESSES: Federal Communications Commission, 445 12th Street, SW., Washington, DC 20554.

FOR FURTHER INFORMATION CONTACT: Deborah Dupont, Media Bureau, (202) 418-2180.

SUPPLEMENTARY INFORMATION: This is a synopsis of the Commission's Report and Order, MB Docket No. 08-197, adopted November 3, 2010, and released November 5, 2010. The full text of this Commission decision is available for inspection and copying during normal business hours in the FCC's Reference Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Report and Order is not subject to the Congressional Review Act. (The Commission, is, therefore, not required to submit a copy of this Report and Order to GAO, pursuant to the Congressional Review Act, see U.S.C. 801(a)(1)(A) because the proposed rule was dismissed.)

Federal Communications Commission.
John A. Karousos,
Assistant Chief, Audio Division, Media Bureau.

[FR Doc. 2010-29388 Filed 11-22-10; 8:45 am]

BILLING CODE 6712-01-P